ENVIRONMENTAL PROTECTION AGENCY

40 CFR Part 52

[NC102-200304(b); FRL-7425-1]

Approval and Promulgation of Implementation Plans North Carolina: Approval of Revisions to Miscellaneous Regulations Within the North Carolina State Implementation Plan

AGENCY: Environmental Protection Agency (EPA).

ACTION: Proposed rule.

SUMMARY: On August 7, 2002, the North Carolina Department of Environment and Natural Resources submitted revisions to the North Carolina State Implementation Plan (SIP). North Carolina is adopting rule 15A NCAC 2D .0542, Control of Particulate Emissions from Cotton Ginning Operations. In addition, North Carolina is amending rules 15A NCAC 2D .0504, Particulates from Wood Burning Indirect Heat Exchangers, .0927, Bulk Gasoline Terminals, .0932, Gasoline Truck Tanks and Vapor Collection Systems and 15A NCAC 2Q .0102, Activities Exempt From Permitting Requirements and .0104, Where to Obtain and File Permit Applications. In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule.

The EPA will not institute a second comment period on this document. Any parties interested in commenting on this document should do so at this time.

DATES: Written comments must be received on or before January 27, 2003.

ADDRESSES: All comments should be addressed to: Randy Terry at the EPA, Region 4 Air Planning Branch, 61 Forsyth Street, SW., Atlanta, Georgia 30303-8960.

Copies of the State submittal(s) are available at the following addresses for inspection during normal business hours:

Environmental Protection Agency, Region 4, Air Planning Branch, 61 Forsyth Street, SW., Atlanta, Georgia 30303-8960. Randy Terry, 404/562-9032.

North Carolina Department of Environment, Health, and Natural Resources, North Salisbury Street, Raleigh, North Carolina 27604.

FOR FURTHER INFORMATION CONTACT: Randy B. Terry at 404/562-9032.

SUPPLEMENTARY INFORMATION: For additional information see the direct final rule which is published in the Rules section of this Federal Register.

Dated: October 31, 2002.
A. Stanley Meiburg,
Acting Regional Administrator, Region 4.

[FR Doc. 02-32138 Filed 12-26-02; 8:45 am]

BILLING CODE 6560-50-P